DEPARTMENT OF AGRICULTURE

Rural Utilities Service

Minnkota Power Cooperative, Inc: Bemidji-Grand Rapids 230kV Transmission Project

AGENCY: Rural Utilities Service, USDA.

ACTION: Notice of Availability of a Draft Environmental Impact Statement and Notice of Public Hearing.

SUMMARY: Notice is hereby given that the Rural Utilities Service (RUS), has prepared a Draft Environmental Impact Statement (EIS) to meet its responsibilities under the National Environmental Policy Act (NEPA) and 7 CFR 1794 related to possible financial assistance to Minnkota Power Cooperative, Inc (Minnkota) for the construction of a 230 kilovolt (kV) kV transmission line between the Wilton Substation near Bemidji, Minnesota, and the Boswell Substation near Grand Rapids, Minnesota in Beltrami, Hubbard, Itasca, and Cass counties. To minimize duplication of effort pursuant to 40 CFR 1506.2, RUS prepared the Draft EIS jointly with the Minnesota Department of Commerce (Commerce), Office of Energy Security (OES) in compliance with federal responsibilities under NEPA and other federal statutes and regulations, and state responsibilities under the Minnesota Environmental Policy Act and the Minnesota Power Plant Siting Act. The U.S. Army Corps of Engineers and U.S. Forest Service Chippewa National Forest and the Leech Lake Band of Ojibwe are cooperating agencies for this Draft EIS.

The proposed new transmission line is needed to correct local load serving inadequacies for the Bemidji area and west-central Minnesota. Minnkota is also proposing to modify the existing Wilton and Boswell substations, construct a new 115 kV breaker station at Nary Junction and, depending on route alternative selected, upgrade an existing or construct a new substation near Cass Lake, Minnesota. Minnkota is requesting financial assistance from RUS for the proposed action.

DATES: Written comments on this Notice must be received on or before April 19, 2010. RUS and OES will jointly conduct the following public meetings March 16 -18, 2010. The first half hour of each meeting will be an open house followed by a formal public information and comment meeting with brief presentations on the DEIS by OES and RUS staff. Members of the public will have an opportunity to ask questions and provide comments on the Draft EIS. A court reporter will transcribe verbal comments from the formal public comment portion of the meeting. Meetings may conclude prior to the listed end time if all attendees have had the opportunity to comment and all other business has been concluded: Tuesday, March 16 from 1p.m.-4p.m. and 6p.m.-9 p.m. at the Hampton Inn, 1019 Paul Bunyan Dr., S. State Hwy 197 in Bemidji, MN 56601; Wednesday, March 17 from 1p.m.-3 p.m. at the American Legion Vets Club, 12 First Street NE., in Deer River, MN 56636; Wednesday, March 17 from 6-9 p.m. at the Senior Center, 24 First Street SE, in Black Duck, MN 56630; and Thursday, March 18 from 6-9 p.m. at the Leech Lake Tribal College, 6945 Little Wolf Road NW., in Cass Lake, MN 56633. Comments regarding the project may be submitted (orally or in writing) to Ms. Stephanie Strength or Ms. Steinhauer at the addresses provided in this Notice or online via the Commission's Web site at: http://energyfacilities.puc.state.mn.us/publicComments.html.

ADDRESSES: To send comments or to obtain copies of the Draft EIS, or for further information, contact: Stephanie Strength, Environmental Protection Specialist, USDA, Rural Utilities Service, 1400 Independence Avenue, SW., Room 2244, Stop 1571, Washington, DC 20250-1571, e-mail stephanie.strength@wdc.usda.gov., or Suzanne Steinhauer, Project Manager, Minnesota Office of Energy Security, 85 7th Place East, Suite 500, St. Paul, Minnesota, 55101-2198, FAX: (651) 297-7891, e-mail Suzanne.steinhauer@state.mn.us. A copy of the Draft EIS may be viewed online at the following Web sites: http://www.usda.gov/rus/water/ees/eis.htm, http://energyfacilities.puc.state.mn.us/Docket.html?Id=19344, and at the: Bemidji Public Library, 509 America Ave., NW., Bemidji, MN 56601; Cass Lake Community Library, 223 Cedar Ave. NW., Cass Lake, MN 56633; Grand Rapids Area Library, 140 NE 2nd Street, Grand Rapids, MN 55744; Blackduck Community Library, 72 First St., SE., Blackduck, MN 56630; Margaret Welch Memorial Library, 5051 State 84, Longville, MN 56655; Walker Public Library, 207 4th St., Walker, MN 56484; Bovey Public Library—Village Hall, 402 2nd Street, Bovey, MN 55709-0130; and Coleraine Public Library, Independent Building, 203 Cole Avenue, Coleraine, MN 55722-0225.

SUPPLEMENTARY INFORMATION: Minnkota Power Cooperative, Inc (Minnkota), in conjunction with Otter Tail Power Company and Minnesota Power, proposes to construct and operate a 230 kV transmission line between the Wilton substation west of Bemidji and the Boswell Substation west of Grand Rapids, Minnesota. The proposal is designed to correct a local load serving inadequacy for the Bemidji area and west central Minnesota. Three route alternatives are under consideration for the transmission line. The proposed routes for the transmission line primarily follow existing rights-of-way and cross sections of Beltrami, Hubbard, Cass, and Itasca counties. Depending upon the route selected, the Project may also include modifications to the existing Cass Lake Substation, construction of a new substation in the Cass Lake area, and construction of a new 115 kV breaker station near Nary, Minnesota.

The proposed transmission line would be approximately 68 to 116 miles in length with a 125-foot right-of-way. The construction of the proposal is tentatively scheduled to begin in the fall of 2010 with an estimated duration of construction of 1 year.

RUS is the lead agency for the federal environmental review with Division of Resource Management of the Leech Lake Reservation, the Chippewa National Forest, and U.S. Army Corps of Engineers participating as cooperating agencies. In addition to federal review, the project is subject to Power Plant Siting Act (Minn. Stat. 216E). Accordingly OES and RUS have collaborated to create a joint draft EIS for this project. A Notice of Intent to Prepare an EIS and Hold a Scoping Meeting was published in the Federal Register at 73FR41312, on July 18, 2008, and local newspapers. Scoping meetings for the EIS were held in the project area in August, 2008, and public comments were accepted from July 22, 2008, through September 30, 2008. The OES issued an EIS scoping decision on March 31, 2009, and modified it on February 5, 2010. RUS issued a Scoping Decision/Report in December, 2009.

As part of its broad environmental review process, RUS must take into account the effect of the proposal on historic properties in accordance with Section 106 of the National Historic Preservation Act and its implementing regulation, “Protection of Historic Properties” (36 CFR Part 800). Pursuant to 36 CFR § 800.2(d)(3), RUS is using its procedures for public involvement under NEPA to meet its responsibilities to solicit and consider the views of the public during Section 106 review. Accordingly, comments submitted in response to scoping will inform RUS' decision making in Section 106 review. Any party wishing to participate more directly with RUS as a “consulting party” in Section 106 review may submit a written request to the RUS contact provided in this notice.

Alternatives to the proposed project considered by RUS, OES, and Minnkota included (a) no action, (b) generation alternatives, (c) load management, (d) alternative transmission line configurations, and (e) alternative transmission routes. A Draft Environmental Impact Statement (EIS) that describes the proposal in detail and discusses its anticipated environmental impacts has been prepared and is available for public review at the addresses provided in this Notice.

Questions and comments should be sent to RUS or OES at the mailing or e-mail addresses provided in this Notice. RUS should receive comments on the Draft EIS in writing by April 19, 2010 to ensure that they are considered in the Final EIS. Once available, the final EIS will be noticed in the Federal Register and local newspapers. The Federal Agencies will then issue a Record of Decision following a 30-day public comment period on the Final EIS.

Any final action by RUS related to the proposal will be subject to, and contingent upon, compliance with all relevant Federal, state and local environmental laws and regulations, and completion of the environmental review requirements as prescribed in RUS' Environmental Policies and Procedures (7 CFR Part 1794).

Dated: February 25, 2010.
Nivin Elgohary,
Acting Assistant Administrator, Electric Program, USDA/Rural Utilities Service.

[FR Doc. 2010-4342 Filed 3-2-10; 8:45 am]

BILLING CODE 3410-15-P